DEPARTMENT OF AGRICULTURE

Food and Nutrition Service

Agency Information Collection Activities: 2024-2025 National School Foods Study

AGENCY: Food and Nutrition Service (FNS), USDA.

ACTION: Notice.

SUMMARY: In accordance with the Paperwork Reduction Act of 1995, this notice invites the general public and other public agencies to comment on this proposed information collection. This collection is a new collection that combines the School Nutrition and Meal Cost Study-II (SNMCS-II), School Food Purchase Study-IV (SFPS-IV), and a second Fresh Fruit and Vegetable Program Evaluation (FFVP-II) into one coordinated effort named the 2024-2025 National School Foods Study. The purpose of this combined effort is to reduce overall burden for respondents across the three studies and provide a comprehensive picture of the school-based child nutrition (CN) programs in the 2024-2025 school year.

DATES: Written comments must be received on or before February 20, 2024.

ADDRESSES: Comments may be emailed to Ashley.Chaifetz@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Ashley Chaifetz at 470-528-7717.

SUPPLEMENTARY INFORMATION:

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: 2024-2025 National School Foods Study.

Form Number: N/A.

OMB Number: 0584-NEW.

Expiration Date: Not yet determined.

Type of Request: New collection.

Abstract: The SNMCS-II component of the 2024-2025 National School Foods Study will provide a comprehensive picture of the National School Lunch and School Breakfast Programs (NSLP and SBP, respectively), and will provide critical information about the nutritional quality, cost, and acceptability of school meals twelve years after major reforms began being phased in during the 2012-2013 school year (SY). SNMCS-II will collect a broad range of data from nationally representative samples of public school food authorities (SFAs); public, non-charter schools; students; and parents/guardians during SY 2024-2025. These data will provide Federal, State, and local policymakers with current information about how federally sponsored school meal programs are operating by updating the information that was collected in SY 2014-2015 for SNMCS-I. In addition, findings from the SNMCS-II component will be compared to those from SNMCS-I to explore trends in key domains including the nutrient content of school meals, meal costs and revenues, and student participation, plate waste, and dietary intakes. SNMCS-II will also estimate the costs of producing reimbursable school meals in five States and Territories outside of the 48 contiguous States and the District of Columbia (DC) and examine the relationship of costs to revenues in those five outlying areas.

The SFPS-IV component of the study will provide national estimates of public SFA food acquisitions (commercial purchases and USDA Foods) both in terms of cost and volume, in addition to a description and analysis of food purchase practices in SY 2024-2025. In addition, the study will assess changes in food acquisitions and purchase practices since the previous study in SY 2009-2010 to provide important information about the impact of the updated nutrition standards and other changes. Information about food buying efficiencies will be useful for SFAs as they strive to maximize available resources and improve food service operations.

For SNMCS-II and SFPS-IV, these instruments were initially approved as part of OMB Control No. 0584-0648 (SNMCS-II) and OMB Control No. 0584-0471 (SFPS-IV). Those data collections were postponed and eventually canceled due to the COVID-19 pandemic. The instruments will be updated and resubmitted.

The FFVP-II component of the study will compare student- and school-level outcomes in participating and nonparticipating schools in SY 2024-2025, including student consumption of and attitudes towards fruits and vegetables, student energy intake and nutritional status, and school provision of nutrition education. It will also examine implementation components, such as school characteristics, program delivery, student participation and characteristics of participating and nonparticipating students.

Section 28(a) of the Richard B. Russell National School Lunch Act authorizes this assessment of NSLP, SBP, and FFVP, including the cost of producing meals and the nutrient profile of meals.

SFAs are sampled into different groups, which drive the data collection activities they are asked to participate in. Samples in Groups 1a, 1b, 1c, 2a, 2b, and 3 are limited to the contiguous 48 States and DC. The outlying areas sample includes SFAs and schools in Alaska, Guam, Hawaii, Puerto Rico, and the U.S. Virgin Islands.

Data collected from the Group 1a, 1c, 2a, and 3 samples will provide the precision required for national estimates of SFA-level characteristics and food service operations.

Data collected from Groups 1a and 1b will be used to address study objectives related to types, amounts, and costs of food purchases and USDA Foods; changes in the mix of food acquired by schools since SFPS-III and the extent to which the costs of food have changed; the mix of foods acquired by various subgroups; school food purchase practices; and relationships between costs of food, food purchase practices, and SFA characteristics.

Data collected from the Group 2a sample will be used to address study objectives related to the school nutrition environment and food service operations; the food and nutrient content of school meals; student participation in the NSLP and SBP; student/parent satisfaction with the school meal programs; and students' characteristics and dietary intakes.

Data collected from the Group 2b sample will be used to address study objectives related to the characteristics of SFAs, schools, and students participating in the FFVP; student/parent satisfaction with the FFVP; and dietary intakes of students who do and do not participate in the FFVP.

Data collected from the Group 3 sample will be used to address study objectives related to the school nutrition environment and food service operations; the food and nutrient content of school meals; the costs to produce reimbursable school lunches and breakfasts, including indirect and local administrative costs, and the ratios of revenues to costs; and plate waste in the school meals programs.

Data collected from the outlying areas sample will be used to estimate the costs of producing reimbursable school meals and the ratios of revenues to costs.

Affected Public: Individual/Household respondents include: (1) Students (1st grade through high school) and (2) their parents/guardians. Business or Other For Profit respondents include food service management company (FSMC) managers, and school food distributors. State, Local, and Tribal Governments respondent groups include: (1) State Child Nutrition Agency (CN) directors; (2) State Education Agency finance officers; (3) State Distributing Agency (SDA) directors; (4) school district superintendents; (5) SFA directors; (6) local educational agency business managers; (7) school nutrition managers (SNMs); (8) principals; and (9) school study liaisons appointed by principals.

Estimated Number of Respondents: A total of 26,547 members of the public will be initially contacted to participate in the study. This includes: 20,056 from Individuals/Households, 66 from Business or Other For Profits, and 6,425 from State, Local, and Tribal Governments. Initial contact will vary by type of respondent and may include study notification, recruiting, or data collection. FNS anticipates that approximately 16,537 of this sample will respond to initial contact and 10,010 will not respond. Some respondents who respond to the initial contact may subsequently become non-respondents to one or more components of the data collection. The number of unique respondents expected to provide data for the study is 12,257.

The Group 1a completed sample includes 88 SFAs and no schools. SFA directors will provide information for the SFA Quarterly Program Data Form and Quarterly Food Purchase Data, and participate in the Food Purchase Planning Interview; SFA Director Survey (SNMCS-II and SFPS-IV components); and SFA Year-End Follow-Up Survey. The Group 1b completed sample includes 276 SFAs and no schools. SFA directors will provide information for the SFA Quarterly Program Data Form and Quarterly Food Purchase Data, and participate in the Food Purchase Planning Interview; SFA Director Survey (SFPS-IV component); and SFA Year-End Follow-Up Survey. Forty-nine SDA directors will provide quarterly USDA Foods data for Groups 1a and 1b. The Group 1c completed sample includes 48 SFAs and no schools. SFA directors will participate in the SFA Director Survey (SNMCS-II component).

The Group 2a completed sample comprises 133 SFAs, 265 schools, and 2,177 students and their parents/guardians. SFA and school staff will participate in the SFA Director and School Planning Interviews; SFA Director Survey (SNMCS-II component), SNM Survey, and Principal Survey; the Menu Survey; and Observation Guide and Reimbursable Meal Sales Data Form. Students and parents/guardians will complete the Student Interview; 24-hour Dietary Recall; and Parent Interview.

The Group 2b completed sample comprises 100 SFAs, 200 schools, and 1,600 students and their parents/guardians. State CN directors will participate in the FFVP State Agency Survey. SFA and school staff will participate in the SFA Director and School Planning Interviews; SFA Director Survey (FFVP-II component) and SNM Survey; the FFVP-II Menu Survey; and Observation Guide and Reimbursable Meal Sales Data Form. Students and parents/guardians will complete the Student Interview; In-school Intake Dietary Recall; and Parent Interview. Forty-seven State CN directors will complete the Follow-Up State Child Nutrition Agency Survey.

The Group 3 completed sample includes 265 SFAs and 796 schools. SFA and school staff will participate in the SFA Director and School Planning Interviews; SFA On-Site Cost Interview and Food Cost Worksheet; SFA Follow-Up Web Survey and Cost Interview; SNM Cost Interview; Principal Cost Interview; SFA Director Survey (SNMCS-II component), SNM Survey, and Principal Survey; the Menu Survey; and Observation Guide. Forty State Education Agency finance officers will complete the State Agency Indirect Cost Survey. Plate waste will be observed for 4,140 reimbursable lunches and 2,120 reimbursable breakfasts at a subsample of 138 schools among this Group 3 sample.

The outlying areas sample is divided into two groups: full outlying areas and limited outlying areas. Alaska, Guam, and Hawaii will participate in the full outlying areas data collection, which includes SFA- and school-level data collection; Puerto Rico and the U.S. Virgin Islands will participate in a limited outlying areas data collection, which includes only SFA-level data collection. For the full outlying areas collection, SFA and school staff in 31 SFAs and 138 schools will complete the SFA Director and School Planning Interviews; SFA On-Site Cost Interview and Food Cost Worksheet; SFA Follow-Up Web Survey and Cost Interview; SNM Cost Interview; Principal Cost Interview; and the Menu Survey. One State Education Agency finance officer will complete the State Agency Indirect Cost Survey. For the limited outlying areas collection, SFA staff in three SFAs will complete the SFA Director Planning Interview, SFA On-Site Cost Interview and Food Cost Worksheet; and SFA Follow-Up Web Survey and Cost Interview.

Estimated Number of Responses per Respondent: Respondents will be asked to respond to each specific data collection activity once, except for SDA directors who will be asked to respond four times. The overall average number of responses per respondent across the entire collection is 6.34.

Estimated Total Annual Responses: 168,384 total annual responses.

Estimated Time per Response: The estimated time of response varies from 1 minute (0.0167 hours) to 9 hours for respondents and 0 minutes (0.0000 hours) to 17 minutes (0.2839 hours) for non-respondents, as shown in the burden table below, with an average estimated time of 13 minutes (0.2219) hours for all respondents and non-respondents.

Estimated Total Annual Burden on Respondents: 2,241,600 minutes (37,360 hours). See the table below for estimated total annual burden for each type of respondent.

BILLING CODE 3410-30-P

Tameka Owens,
Assistant Administrator, Food and Nutrition Service.

[FR Doc. 2023-27763 Filed 12-18-23; 8:45 am]

BILLING CODE 3410-30-C